INTERNATIONAL TRADE COMMISSION

[Investigation No. 337-TA-1098]

Certain Subsea Telecommunications Systems and Components Thereof; Commission Determination Not To Review an Initial Determination Granting a Motion for Leave To Amend the Complaint and Notice of Investigation To Correct the Name of a Respondent and Withdrawal of the Complaint as to Other Respondents

AGENCY: U.S. International Trade Commission.

ACTION: Notice.

SUMMARY: Notice is hereby given that the U.S. International Trade Commission has determined not to review an initial determination (“ID”) (Order No. 9) of the presiding administrative law judge (“ALJ”), granting complainant's unopposed motion for leave to amend the complaint and notice of investigation to correct the name of respondent Alcatel-Lucent Submarine Networks SAS to Alcatel Submarine Networks and withdrawal of the complaint as to respondents Nokia Solutions and Networks B.V., Nokia Solutions and Networks Oy, and Nokia Solutions and Networks US LLC.

FOR FURTHER INFORMATION CONTACT: Amanda Pitcher Fisherow, Esq., Office of the General Counsel, U.S. International Trade Commission, 500 E Street SW, Washington, DC 20436, telephone (202) 205-2737. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation on January 26, 2018, based on a complaint, as supplemented, filed on behalf of Neptune Subsea Acquisitions Ltd. of the United Kingdom; Neptune Subsea IP Ltd. of the United Kingdom; and Xtera, Inc. of Allen, Texas (“complainants”). 83 FR 3370 (Jan. 26, 2018). The complaint, as supplemented, alleges violations of Section 337 of the Tariff Act of 1930, as amended, 19 U.S.C. 1337 (“section 337”), based upon the importation into the United States, the sale for importation, and the sale within the United States after importation of certain subsea telecommunication systems and components thereof by reason of infringement of one or more of U.S. Patent No. 8,380,068; U.S. Patent No. 7,860,403; U.S. Patent No. 8,971,171; U.S. Patent No. 8,351,798; and U.S. Patent No. 8,406,637. The complaint further alleges that an industry in the United States exists as required by section 337. The Notice of Investigation named numerous respondents, including: Nokia Corporation of Espoo, Finland; Nokia Solutions and Networks B.V. of Hoofddorp, The Netherlands; Nokia Solutions and Networks Oy of Espoo, Finland; Nokia Solutions and Networks US LLC of Phoenix, Arizona; and Alcatel-Lucent Submarine Networks SAS of Boulogne-Billancourt, France. The Office of Unfair Import Investigations was named as a party in this investigation.

On March 8, 2018, complainants filed an unopposed motion to (1) amend the complaint and notice of investigation to correct the name of Alcatel-Lucent Submarine Networks SAS to Alcatel Submarine Networks and (2) withdraw the complaint as to Nokia Solutions and Networks B.V., Nokia Solutions and Networks Oy, and Nokia Solutions and Networks US LLC. Complainants note that complainants, Nokia Corporation, Nokia Solutions and Networks B.V., Nokia Solutions and Networks Oy, Nokia Solutions and Networks US LLC, and Alcatel-Lucent Submarine Networks SAS entered into a joint stipulation concerning the subject matter of the investigation where Nokia Corporation, Nokia Solutions and Networks B.V., Nokia Solutions and Networks Oy, Nokia Solutions and Networks US LLC, and Alcatel-Lucent Submarine Networks SAS represented that Nokia Solutions and Networks B.V., Nokia Solutions and Networks Oy, and Nokia Solutions and Networks US LLC do not sell, design, or manufacture the accused subsea telecommunication systems and components thereof; and that Nokia Solutions and Networks US LLC no longer exists as of January 1, 2018. Based on this stipulation, complainants agreed to withdraw the complaint as to Nokia Solutions and Networks B.V., Nokia Solutions and Networks Oy, and Nokia Solutions and Networks US LLC.

On March 19, 2018, the ALJ issued the subject ID granting complainants' motion. The ALJ found that good cause exists to amend the complaint and there is no evidence of any prejudice to the parties in the investigation. The ALJ found that no extraordinary circumstances prevent the partial termination of the investigation as to Nokia Solutions and Networks B.V., Nokia Solutions and Networks Oy, and Nokia Solutions and Networks US LLC. None of the parties petitioned for review of the subject ID.

The Commission has determined not to review the ID.

The authority for the Commission's determination is contained in section 337 of the Tariff Act of 1930, as amended (19 U.S.C. 1337), and in Part 210 of the Commission's Rules of Practice and Procedure (19 CFR part 210).

By order of the Commission.
Issued: April 17, 2018.
Lisa Barton,
Secretary to the Commission.

[FR Doc. 2018-08369 Filed 4-20-18; 8:45 am]

BILLING CODE 7020-02-P